DEPARTMENT OF TRANSPORTATION

Federal Highway Administration

23 CFR Part 505

[FHWA Docket No. FHWA-05-23393]

RIN 2125-AF08

Projects of National and Regional Significance Evaluation and Rating

AGENCY: Federal Highway Administration (FHWA), DOT.

ACTION: Notice of proposed rulemaking (NPRM); reopening of comment period.

SUMMARY: The FHWA is reopening the comment period for the notice of proposed rulemaking (NPRM) and request for comments, which was published on July 24, 2006, at 71 FR 41748. That NPRM proposed to establish the required evaluation and rating guidelines for projects proposed under the Projects of National and Regional Significance (PNRS) program. The original comment period closed on September 22, 2006. The extension is based on the desire of the FHWA to receive the fullest and most comprehensive comments possible from the broadest group of stakeholders. During the initial analysis of comments the FHWA recognized that a number of subject areas were not commented upon, and significant segments of the transportation stakeholder community did not respond. The FHWA believes that those interested in commenting on this important program may not have had the opportunity to provide comments and that the comment period should be reopened. Therefore, the comment period is being reopened until February 9, 2007, which will provide those interested in commenting additional time to discuss, evaluate, and submit responses to the docket.

DATES: Comments must be received on or before February 9, 2007.

ADDRESSES: Mail or hand deliver comments to the U.S. Department of Transportation, Dockets Management Facility, Room PL-401, 400 Seventh Street, SW., Washington, DC 20590, or submit electronically at http://dmses.dot.gov/submit or fax comments to (202) 366-7909. All comments should include the docket number that appears in the heading of this document. All comments received will be available for examination at the above address from 9 a.m. to 5 p.m., e.t., Monday through Friday, except Federal holidays. Those desiring notification of receipt of comments must include a self-addressed, stamped postcard or print the acknowledgement page that appears after submitting comments electronically. Anyone is able to search the electronic form of all comments in any one of our dockets by the name of the individual submitting the comment (or signing the comment, if submitted on behalf of an association, business, or labor union). You may review DOT's complete Privacy Act Statement in the Federal Register published on April 11, 2000 (Volume 65, Number 70, Pages 19477-78) or you may visit http://dms.dot.gov.

FOR FURTHER INFORMATION CONTACT: Mr. Edward Strocko, Office of Freight Management and Operations, (202) 366-2997; or Ms. Alla Shaw, Office of the Chief Counsel, (202) 366-0764, U.S. Department of Transportation, Federal Highway Administration, 400 Seventh Street, SW., Washington, DC 20590. Office hours are from 7:45 a.m. to 4:15 p.m., e.t., Monday through Friday, except Federal holidays.

SUPPLEMENTARY INFORMATION:

Electronic Access and Filing

You may submit or retrieve comments online through the Document Management System (DMS) at: http://dmses.dot.gov/submit. Electronic submission and retrieval help and guidelines are available under the help section of the Web site. Alternatively, internet users may access all comments received by the DOT Docket Facility by using the universal resource locator (URL) http://dms.dot.gov. It is available 24 hours each day, 365 days each year. Please follow the instructions. An electronic copy of this document may also be downloaded by accessing the Office of the Federal Register's home page at: http://www.archives.gov or the Government Printing Office's Web page at: http://www.gpoaccess.gov/nara.

Background

The Projects of National and Regional Significance program established under section 1301 of the Safe, Accountable, Flexible, Efficient Transportation Equity Act: A Legacy for Users (Pub. L. 109-59) is intended to finance critical, high-cost transportation infrastructure facilities that address critical national economic and transportation needs. These projects often involve multiple levels of government, agencies, modes of transportation, and transportation goals and planning processes that are not easily addressed or funded within existing surface transportation program categories. Projects of National and Regional Significance would have national and regional benefits, including improving economic productivity by facilitating international trade, relieving congestion, and improving transportation safety by facilitating passenger and freight movement. Additionally, this program would further the goals of the Secretary's Congestion Initiative.¹

¹ Speaking before the National Retail Foundation's annual conference on May 16, 2006, in Washington, DC, former U.S. Transportation Secretary Norman Mineta unveiled a new plan to reduce congestion plaguing America's roads, rail and airports. The National Strategy to Reduce Congestion on America's Transportation Network includes a number of initiatives designed to reduce transportation congestion and is available at the following URL: http://isddc.dot.gov/OLPFiles/OST/012988.pdf.

The benefits of PNRS would accrue beyond local areas and States to the Nation as a whole. A program dedicated to constructing PNRS would improve the safe, secure, and efficient movement of people and goods throughout the United States as well as improve the health and welfare of the national economy.

On July 24, 2006, at 71 FR 41748, the FHWA published a NPRM proposing the establishment of regulations for 23 CFR 505, the evaluation and rating guidelines for projects proposed for funding under the PNRS program. The FHWA is looking for specific and detailed comments that contribute to the definition of grant criteria, project eligibility, project ratings, and the nature and form of full funding grant agreements. The FHWA specifically invites comments that contribute to an understanding and a quantification of criteria related to congestion, system throughput, safety, technology, private contributions and national and/or regional economic benefits.

The original comment period for the NPRM closed on September 22, 2006. The FHWA recognizes that additional time will allow interested parties a broader and more comprehensive review and discussion of the proposed regulations; and then, allow the development and submission of complete responses to the docket. To allow time for interested parties to submit comprehensive comments, the comment period is being reopened until February 9, 2007.

Authority: 23 U.S.C. 101(a), 104, 109(d), 114(a), 217, 315, and 402(a); 23 CFR 1.32 and 49 CFR 1.48(b).

Issued on: December 21, 2006.
J. Richard Capka,
Federal Highway Administrator.

[FR Doc. E6-22322 Filed 12-27-06; 8:45 am]

BILLING CODE 4910-22-P